ENVIRONMENTAL PROTECTION AGENCY

[FRL-8924-01-R2]

Proposed CERCLA Cost Recovery Settlement for the Apple Valley Shopping Center Superfund Site, Town of LaGrange, Dutchess County, New York

AGENCY: Environmental Protection Agency.

ACTION: Notice; request for public comment.

SUMMARY: In accordance with the Comprehensive Environmental Response, Compensation, and Liability Act of 1980, as amended (“CERCLA”), notice is hereby given by the U.S. Environmental Protection Agency (EPA), Region 2, of a proposed cost recovery settlement agreement (Agreement) pursuant to CERCLA, with Apple Valley Corp. and the Estate of James A. Klein (Settling Parties) for the Apple Valley Shopping Center Superfund Site (Site), LaGrange, Dutchess County, New York.

DATES: Comments must be submitted on or before September 30, 2021.

ADDRESSES: Comments can be sent via email to Sharon Kivowitz at kivowitz.sharon@epa.gov. Comments should reference the Apple Valley Shopping Center Superfund Site Settlement Agreement for Recovery of Response Costs, Index No. CERCLA-02-2021-2025. The proposed settlement is available for public inspection at this weblink: https://semspub.epa.gov/src/document/02/625084.

FOR FURTHER INFORMATION CONTACT: Sharon Kivowitz, Attorney, Office of Regional Counsel, U.S. Environmental Protection Agency, Email: kivowitz.sharon@epa.gov Telephone: 212-637-3183.

SUPPLEMENTARY INFORMATION: Under the Agreement, the Settling Parties will pay $75,000 to the EPA Hazardous Substance Superfund in reimbursement of EPA's Past Response Costs paid at or in connection with the Site. The Agreement includes a covenant by EPA not to sue or to take administrative action against the Settling Parties pursuant to Section 107(a) of CERCLA, 42 U.S.C. 9607(a), to recover such Past Response Costs. For thirty (30) days following the date of publication of this notice, EPA will receive written comments relating to the Agreement. EPA will consider all comments received and may modify or withdraw its consent to the Agreement if comments received disclose facts or considerations that indicate that the proposed Agreement is inappropriate, improper, or inadequate. EPA's response to any comments received will be available for public inspection at EPA Region 2, 290 Broadway, New York, New York 10007-1866.

Pasquale Evangelista,
Director, Superfund & Emergency Management Division, U.S. Environmental Protection Agency, Region 2.

[FR Doc. 2021-18701 Filed 8-30-21; 8:45 am]

BILLING CODE 6560-50-P